ENVIRONMENTAL PROTECTION AGENCY

[FRL-7175-7]

Community Based In-Home Asthma Environmental Education and Management

AGENCY: Environmental Protection Agency (EPA).

ACTION: Request for grant proposals.

SUMMARY: Request for Proposals for Community Based In-Home Asthma Environmental Education and Management. This action announces the availability of FY 2002 and 2003 grant funds from the Environmental Protection Agency's (EPA) Indoor Environments Division/Office of Radiation and Indoor Air. Under Statutory Authority 42 U.S.C. 7401-7626; Public Law 159, 69 Stat. 322, EPA plans to award two to four one-time grants of up to $150,000.00 each. The number of awards and award amounts may vary depending on proposal quality and resource availability.

These funds will support performance-based pilot studies of asthma education and management, including indoor asthma trigger identification and mitigation, in existing community-based in-home environmental management or education programs. The purpose of this grant program is to assess the effectiveness of in-home asthma education and management approaches to educating children with asthma, their parents and/or primary care givers, and other people with asthma on how to identify and mitigate the indoor triggers to which the asthmatic(s) in the household may be sensitive.

DATES: 1. Submit letter of intent to apply for the grant on or before May 29, 2002.

2. Pre-application Assistance Conference Call date is: June 5, 2002, 1 until 3 p.m. Eastern Daylight Time.

3. The EPA must receive Applications on or before June 28, 2002.

4. Selected projects will be announced on or around October 15, 2002.

ADDRESSES: E-mail Letters of Intent to in-home.grants@epa.gov. Send Applications by private shipping company only (e.g., Federal Express, UPS, DHL, or courier) to the attention of Brenda Doroski, U.S. Environmental Protection Agency, Indoor Environments Division (6th Floor), 501 3rd Street, NW, Washington, DC 20001.

FOR FURTHER INFORMATION CONTACT: Brenda Doroski at (202) 564-9764 or at in-home.grants@epa.gov.

SUPPLEMENTARY INFORMATION: We encourage first time recipients of Federal funds to familiarize themselves with the regulations applicable to assistance agreements found in the Code of Federal Regulations (CFR) Title 40, part 30 for non-profit organizations and institutions of higher education group, and part 31 for State and local government entities. These rules can be found at www.epa.gov/epacfr40/chapt-l.info/chi.toc.htm. At that location, look under SUBCHAPTER B—GRANTS AND OTHER FEDERAL ASSISTANCE (parts 30-49).” You may also obtain a copy of the CFR Title 40, part 30 and part 31 at your local U.S. Government Bookstore, the U.S. Government Printing Office or on the internet at www.epa.gov/ogd/grants/how_to_apply.htm. Once at this site, select “Administrative Regulations and Policies/Subchapter B—Grants and Other Federal Assistance'.

I. Overview

Section 103(a)(1) of the Clean Air Act authorizes the Administrator to conduct and promote the coordination and acceleration of research, investigations, experiments, demonstrations, surveys and studies relating to the causes, effects (including health and welfare effects), extent, prevention, and control of air pollution by [(b)(3)] making grants to air pollution control agencies, to other public or nonprofit private agencies, institutions, and organizations, and to individuals, for purposes stated in 103(a)(1).

The goal is to develop nationally-applicable, performance-based pilot studies that will: (a) Reduce the impact of environmental asthma triggers on children with asthma; (b) strengthen the capacity of families to control environmental asthma triggers in their homes; and (c) assess the effectiveness and sustainability of strategies for in-home environmental asthma trigger management and education within communities.

The target population of focus is low-income, urban and/or disproportionately impacted (with respect to asthma severity or incidence) children with asthma and their parents and/or care-givers. Adults with asthma may be included in the in-home asthma education program; however, children with asthma should be given preference. Community-based asthma environmental education and management program(s) may occur inside or outside the home through clinical visits or community forums.

II. What Criteria Must I Meet To Be Eligible for This Grant?

To be eligible for funding, you must submit a Letter of Intent by May 29, 2002. In addition, you must:

(1) Meet the standards for eligibility as identified in Section 103 (b)(3) of the Clean Air Act (page 1, paragraph 1); e.g., be a non-profit organization or institute of higher education, or a State or local government entity;

(2) Request no more than $150,000.00 to accomplish pilot project goals and objectives;

(3) Properly complete and submit Standard Form 424 Application for Federal Assistance (SF-424) and a proposal by the established receipt date; and

(4) Commit to complete the proposed pilot project activities within 18—24 months of grant award.

III. How Do I Submit an Application?

The application process consists of a letter of intent to apply for the grant, a voluntary pre-application assistance conference call, and a completed application package. The application package consists of the SF-424 and a proposal. EPA must receive an original, plus two copies of your application package on or before June 28, 2002.

A. Letter of Intent

If you intend to complete the application process, you must e-mail a letter of intent to in-home.grants@epa.gov on or before May 29, 2002. Your letter of intent must include:

(1) Name of your organization

(2) Contact person's name

(3) Mailing address

(4) E-mail address

(5) Phone number and fax number

(6) If you would like to participate in the pre-application assistance conference call on June 5, 2002.

B. Pre-Application Assistance Conference Call

A pre-application assistance conference call has been scheduled for June 5, 2002 from 1 until 3 p.m. Eastern Daylight Time to answer any questions prospective applicants may have. If you indicate a desire to participate in the pre-award assistance conference call in your letter of intent, you will be e-mailed instructions for participating in the conference call.

C. Standard Form 424, Application for Federal Assistance (SF-424)

The SF-424 is available at www.epa.gov/iaq/asthma. The SF-424 will only be used to process the grant if your organization is selected as one of the grantees. The review panel will not receive a copy of your SF-424. For more information on completing SF-424A Budget Forms and understanding cost principles for a Federal grant, visit www.epa.gov/ogd/grants/how_to_apply/htm.

D. Proposal

In addition to the SF-424, you must submit a proposal (no greater than nine pages in length) which includes a detailed work plan, itemized budget, and any supplementary biographical information you wish to provide. Text may be single or double spaced, no smaller than 12 point font. Margins are not specified. Proposals must be legible. No additional materials (e.g, brochures, videos, etc.), beyond the nine page limit, will be given to the review panel for consideration.

Your proposal should address the ranking criteria outlined below in section IV. To address the ranking criteria, your proposal should include:

(1) Project Title.

(2) Work Experience—describe your organization, experience in community-based environmental or public health education (especially with children with asthma), results of existing in-home education efforts and/or existing indoor air quality/asthma activities, and your organization's capacity to conduct in-home asthma assessments and/or education programs.

(3) Project Goals—include a summary of specific objectives, expected outcomes, and deliverables.

(4) Target Population—describe the target population, community, and any special asthma-related demographics of areas targeted for this work.

(5) Overview of Project—describe the basic structure of the proposed in-home asthma education and assessment pilot project, how many families will be reached, curricula and assessment tools to be used, and resource lists including references. Describe why the curricula and protocols were selected or created; what other materials you may have considered (including reasons for not selecting them); and, if possible, a discussion of how the asthma education approaches you wish to demonstrate compare or contrast to other known approaches.

(6) Meeting Community Needs—describe any types of additional materials or assistance that you may give to the households such as community resource lists, household repair and maintenance training, lessons on how to obtain services in the community, etc.

(7) Participant Follow-Up—describe mechanisms for following-up with asthmatics and their families and/or primary care givers following in-home visit(s) to answer questions and provide assistance. Reasons for selecting or creating these mechanisms and, if possible, a discussion of how the selected mechanisms compare to other available mechanisms.

(8) Monitoring and Evaluation—define outputs and outcomes and how project success will be measured. Describe mechanisms for tracking program outputs (e.g., how many households were educated, how many homes were assessed, in how many homes actions were taken), and evaluating program outcomes (e.g., the effectiveness of the education and mitigation methods, the level of increased awareness).

(9) Staff—describe staffing needed to implement the proposed work plan, including number of staff and qualifications. In particular, attention should be paid to the qualifications and experience of key personnel.

(10) Budget—itemize funds for salaries, materials, equipment, contracted activities, travel, overhead, and other pertinent information. Discuss how the budget relates to the objectives, outcomes, and deliverables in the work plan.

(11) Project Management Experience—describe your experience implementing evaluation and tracking procedures and managing grants (e.g., submitting reports, budgets, etc.).

(12) Timeline—indicate project length, tasks, quarterly report submission and final report submission dates.

(13) Sustainability—explain how you will sustain the project beyond the life of the EPA grant.

(14) Replicability—identify other localities, regions, or states that might benefit from the lessons you expect to learn as a result of your pilot project, and how you might promote replication of this project.

IV. How Will EPA Rank Applications?

Applications will be ranked on the basis of the criteria listed below. Ranking for each criterion is based on a scale of 0 (does not meet the requirement) to 5 (exceeds the requirement).

(1) Applicant is currently performing community-based environmental health or public health education programs which are achieving public health outcomes. (0-5 points)

(2) Applicant demonstrates the ability to implement an asthma education program [face-to-face instruction which can occur inside or outside the home, e.g., in a clinic or other community setting] which integrates indoor environmental trigger identification and mitigation approaches in the home into a comprehensive asthma management education program (i.e., medical management and the socio-economics of the target population are also addressed). (0-5 points)

(3) Applicant proposal has goals and objectives which are clearly stated and are likely to reduce the incidence and severity of asthma episodes in the target population, and create behavioral changes in the home as a result of its educational outreach activities. The grant budget is appropriate to accomplish the scope of the work (i.e., number of children with asthma, their parents and/or care-givers that will be reached). (0-5 points)

(4) Applicant proposed work targets low-income, urban and/or disproportionately impacted (with respect to asthma severity or incidence) children. (0-5 points)

(5) Applicant demonstrates it will use education strategies that are effective for varied populations and geographic locations in the United States, and will contribute to an improved understanding of how to conduct asthma education programs that address asthma triggers in homes. Education materials and assessment tools selected for the pilot project reflect current standards for conducting environmental health or public health education and outreach activities, particularly with respect to motivating behavioral changes in low-literacy, low-income, and disproportionately impacted populations. (0-5 points)

(6) Applicant outlines educational materials and mitigation methods for secondhand tobacco smoke, house dust mites, cockroaches, molds, and animal dander which are compatible with the guidance contained in EPA's asthma brochure, “Clear Your Home Of Asthma Triggers: Your Children Will Breathe Easier” (www.epa.gov/iaq/pubs/asthma.html) and the findings and recommendations contained in the January, 2000 National Academy of Sciences report on asthma, “Clearing the Air: Asthma and Indoor Air Exposures” (http://books.nap.edu/catalog/9610.html). (0-5 points)

(7) Applicant staff have the knowledge and experience to successfully perform the proposed work. (0-5 points)

(8) Applicant describes methods that will be used to ensure sustained participant involvement throughout the duration of the grant. Applicant adequately describes mechanisms for obtaining feedback about program effectiveness from participants after the in-home education assessment visits. (0-5 points)

(9) Applicant clearly describes a monitoring and evaluation component (e.g., home visits and/or patient/family reporting) which is practical, reasonable and sound. The applicant must, at a minimum, report the number of homes visited, the number of children and adults with asthma educated, the number of homes in which indoor environmental triggers have been identified, and the number of households in which mitigation actions have been taken. In addition, the applicant describes any health outcomes data that will be obtained through this project, such as, the number of emergency room visits, inpatient hospital admissions, sick visits to primary care physicians for asthma, school days missed, symptom days, rescue medication used, and quality of life indicators. Applicant agrees to provide quarterly performance reports to EPA which shall include, at a minimum, information about the above. (0-5 points)

(10) Applicant addresses how they will sustain their project beyond the life of the EPA grant, and the steps they will take to promote replication of this project in other areas and with other populations. (0-5 points)

Answers to Questions You May Have

Question 1: What is an indirect cost, and what if we don't have an indirect cost rate established?

Answer: Indirect costs are explained in the grant application forms, SF-424, found at www.epa.gov/iaq/asthma. If your organization has an indirect cost (IDC) rate established, include it where appropriate in your budget. If your organization intends to claim indirect costs, and you do not already have a negotiated Federal IDC rate, you may submit your proposal with an estimated IDC rate. If your organization is selected to receive a grant, you will be required to establish an IDC rate within 30 days of notification of the award. Organizations may also opt to charge less than their established IDC rate.

Question 2: Is there a limit on indirect costs; and are they to be included within the $150,000?

Answer: There is no limit on indirect costs. All indirect costs should be included within the $150,000 and included on the Budget Information Form (SF-424A).

Question 3: Is there a cost-share (match) requirement? Will proposals that include cost-sharing be reviewed more favorably?

Answer: No, cost-sharing is not required, and will not be considered in the ranking process. However, you can include matching funds in the proposal, not on form SF-424.

Question 4: On SF-424, block 10, there is a space for “Catalog of Federal Domestic Assistance Number.” What number should we use?

Answer: The CFA number is 66-606.

Question 5: On SF-424, in block 16, it asks “Is application subject to review by State Executive Order 12372 process?'

Answer: To determine whether your state requires review prior to receiving a Federal grant award, and a point of contact if it does, check the Office of Management and Budget website, www.whitehouse.gov/OMB/grants/spoc.html.

Question 6: What start date should we use on the SF-424 form?

Answer: Use November 30, 2002, as the start date, although the actual award date may vary. No pre-award costs will be approved for this pilot project, so please do not incur any costs unless and until you receive an assistance agreement from EPA.

Question 7: Are we required to include a quality assurance narrative statement?

Answer: If you are making environmental measurements or collecting data, your proposal should include a statement about the quality assurance practices you will put in place to ensure the accuracy of your data. If there is a need for additional information, our Grants Administration Division will contact you prior to award.

Question 8: Is the due date of June 28, 2002 flexible?

Answer: No. Applications must be received on or before June 28, 2002 no later than close of business (5pm EDT) as directed in the Request for Proposals. Due to mail delivery problems with the U.S. Postal Service, applications must be sent via private shipping company (e.g., Federal Express, UPS, DHL) or be hand-delivered by messenger to our street address listed in the RFP.

Question 9: Can grant funds be used to mitigate homes?

Answer: The Clean Air Act authority under which this project is being conducted provides for studies and demonstrations. Mitigation is acceptable under this grant only to the extent that it is done as a way to teach occupants how to clean-up and/or prevent indoor environmental triggers of asthma in their home. It is up to the applicant to propose mitigation methods, and their rationale, that they believe will be most effective given the scope of their proposal. Applicants should refer to EPA brochure “Clear Your Home of Asthma Triggers” and the National Academy of Sciences report on asthma, “Clearing the Air: Asthma and Indoor Air Exposures” for more information on recommended mitigation methods for indoor environmental asthma triggers. Budget may limit the degree of interventions. At a minimum, the education must be direct one-on-one, and should be clearly outlined in the proposal. Mitigations might include, but are not limited to, things like mold clean up or mattress covers. Interventions should be directly linked to your proposed project objectives and outcomes.

Question 10: Will our grant proposals be considered confidential?

Answer: While grant proposals are generally handled in a confidential manner, they may be disclosed under the Freedom of Information Act. If there is any information you wish to ensure remains confidential, please be sure to stamp “confidential” or “restricted” on each page on which such information occurs. If we receive a third-party request for information labeled confidential, we will follow procedures outlined in 40 CFR part 2, subpart B.

Question 11: Are we permitted to enter into contracts as part of the project we are proposing?

Answer: Yes, as long as the costs are allowable as defined under the Code of Federal Regulations 40 Part 30 and Part 31, which can be found at www.epa.gov/ogd/grants.htm.

Question 12: May we include collaborators, or submit our proposal with another organization?

Answer: Application packages must be submitted by the organization who submitted the letter of intent, but applications may include collaborators, and may be submitted as joint proposals. The funding will go to the lead organization.

Question 13: Does the proposal require that we demonstrate the efficacy of a specific approach using scientific method such as a randomized, controlled study or experimental research, or a demonstration trial?

Answer: No, the proposal does not require that you use scientific method to demonstrate the efficacy of a specific approach. You should provide rationale for using a specific approach, including any past results you may have from using the approach. You should include the health outcomes you expect in the target community as a result of the proposed approach.

Question 14: If we have additional support for this program through other sources, can they be used? (Related to Ranking Criteria 9 and 10)

Answer: Yes, it is fine if you include additional resources you may have for the project.

Authority: 42 U.S.C. 7401-7626; Pub. L. 159, 69 Stat. 322.

Dated: April 17, 2002.
Elizabeth Craig,
Deputy Assistant Administrator, Office of Air and Radiation.

[FR Doc. 02-10041 Filed 4-23-02; 8:45 am]

BILLING CODE 6560-50-P